FEDERAL COMMUNICATIONS COMMISSION

[WC Docket No. 05-25; DA 15-66]

Wireline Competition Bureau Issues Subpoena to Providers Responding to the Special Access Data Collection

AGENCY: Federal Communications Commission.

ACTION: Notice.

SUMMARY: The Wireline Competition Bureau (Bureau) issues an administrative subpoena requiring providers of special access services to submit customer-related information sought in the special access data collection.

DATES: The deadline for businesses responding to the subpoena/collection with more than 1,500 employees is January 29, 2015. The deadline for business required to respond to this subpoena/collection with 1,500 or fewer employees is February 27, 2015.

ADDRESSES: Providers are instructed to submit the requested information/documents using the Special Access Web Portal created for the electronic filing of information and certifications in response to the special access data collection, available at https://specialaccessfiling.fcc.gov/spadc/login. In the event files are too large to deliver via the Special Access Web Portal, contact Christopher Koves, Christopher.Koves@fcc.gov to coordinate hand delivery to the Federal Communications Commission, 445 12th Street SW., Washington, DC 20554.

FOR FURTHER INFORMATION CONTACT: Christopher Koves at Christopher.Koves@fcc.gov or 202-418-8209.

SUPPLEMENTARY INFORMATION: This is a summary of the Public Notice, WC Docket 05-25, RM 10593, DA 15-66, released January 16, 2015. This document does not contain information collection(s) subject to the Paperwork Reduction Act of 1995 (PRA), Public Law 104-13. In addition, therefore, it does not contain any new or modified “information collection burden[s] for small business concerns with fewer than 25 employees,” pursuant to the Small Business Paperwork Relief Act of 2002. The full text of this document may be downloaded at the following Internet address: https://apps.fcc.gov/edocs_public/attachmatch/DA-15-66A1.pdf. The complete text maybe purchased from Best Copy and Printing, Inc., 445 12th Street SW., Room CY-B402, Washington, DC 20554. To request alternative formats, for persons with disabilities (e.g. accessible format documents, sign language, interpreters, CARTS, etc.), send an email to fcc504@fcc.gov or call the Commission's Consumer and Governmental Affairs Bureau at (202) 418-0530 or (202) 418-0432 (TTY).

On January 16, 2015, the Bureau issued an administrative subpoena ordering providers of special access service in areas where the incumbent local exchange carrier is subject to price cap regulation to submit the customer-related data sought in the special access data collection. The subpoena addresses concerns raised the National Cable and Telecommunications Association (NCTA) and United States Telecom Association (USTelecom) about the application of Federal privacy statues when responding to the collection with customer information.

NCTA and USTelcom in ex parte filings asked the Bureau to issue an administrative subpoena requiring providers of special access services to submit documents in response to the collection to remove uncertainty regarding providers' obligations under the Electronic Communications Privacy Act (ECPA) and Sections 222 and 631 of the Communications Act (the Act) while providing the Commission with information requested in the collection.

The Bureau issues this subpoena to remove any uncertainty as to the obligations of respondents to produce the customer information sought in the collection consistent with ECPA and with sections 222 and 631 of the Act. Accordingly, providers must produce any and all documents providing the customer-related information sought by the Commission in the data collection. Providers are instructed to utilize the Special Access Web Portal created for the submission of electronic information and certification in response to the special access data collection, available at https://specialaccessfiling.fcc.gov/spadc/login. In the event files are too large to deliver via the Special Access Web Portal, contact Christopher Koves, Christopher.Koves@fcc.gov to coordinate hand delivery to the Federal Communications Commission, 445 12th Street SW., Washington, DC 20554. The filing deadline for businesses required to respond to this Subpoena with more than 1,500 employees is January 29, 2015. The filing deadline for businesses required to respond to this Subpoena with 1,500 or fewer employees is February 27, 2015.

Federal Communications Commission.
Lynne Engledow,
Assistant Chief, Pricing Policy Division, Wireline Competition Bureau.

[FR Doc. 2015-02991 Filed 2-11-15; 8:45 am]

BILLING CODE 6712-01-P